DEPARTMENT OF HEALTH AND HUMAN SERVICES

Office of Inspector General

Program Exclusions: July 2000

AGENCY: Office of Inspector General, HHS.

ACTION: Notice of program exclusions.

During the month of July 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
Program-related convictions:
ABIGANTUS, ANTONIO B, LEXINGTON, KY | 08/20/2000
ALONSO, RAMON, MIAMI, FL | 08/20/2000
BERVERLY MANOR SAN FRANCISCO, SAN FRANCISCO, CA | 02/03/2000
BEVERLY MANOR ESCONDIDO, ESCONDIDO, CA | 02/03/2000
BHR AIKEN, AIKEN, SC | 02/03/2000
BOLDEN, CLIFFORD E, EGLIN AFB, FL | 08/20/2000
BOLDEN, GLENNIS L, MARIANNA, FL | 08/20/2000
BOWLAN, TIMOTHY MARK, EDMOND, OK | 08/20/2000
CALDERIN, CIRO MANUEL, MIAMI, FL | 08/20/2000
CAMEJO, OLGA, MIAMI BEACH, FL | 08/20/2000
CAMEJO, RAMON, MIAMI, FL | 08/20/2000
CASTELLANOS, JOHN, MIAMI, FL | 08/20/2000
CHAMLEY, ANNA MARIE, BEDFORD, TX | 08/20/2000
CHILDERS, CHARLES DAVID, MIRAMAR, FL | 08/20/2000
CIVIELLO, CHARLES, BROOKLYN, NY | 08/20/2000
COLLEGE OAKS, SACRAMENTO, CA | 02/03/2000
COOPER, BALYNDA RENEE, VALLEJO, CA | 08/20/2000
COUNTRYSIDE ESTATES, IOLA, KS | 02/03/2000
CROSSROADS ORTHOTICS PROS, VICTORIA, TX | 08/20/2000
CRUZ, BEATRIZ, MIAMI, FL | 08/20/2000
DARNELL, ELOISE VERGEIRE, LONG BEACH, CA | 08/20/2000
DATASTANYAN, OGANES, LOS ANGELES, CA | 08/20/2000
DE LA CERDA, NELSON, COLEMAN, FL | 08/20/2000
DE LA ROSA, RAUL, MIAMI, FL | 08/20/2000
DEL ROSARIO, MA THERESA, LONG BEACH, CA | 08/20/2000
DIAZ, ROBERTO A, MIAMI, FL | 08/20/2000
DOMINGUEZ, DAGMARA, MIAMI, FL | 08/20/2000
DOMINGUEZ, MIRIAM, MIAMI, FL | 08/20/2000
DORMAN, JAMES D, THREE RIVERS, TX | 08/20/2000
FALCON, JACINTO R, MIAMI, FL | 08/20/2000
FERNANDEZ, ISABEL C, MIAMI, FL | 08/20/2000
FIALLO, LAMBERTO, MIAMI, FL | 08/20/2000
FONTANA, HUMBERTO L, MIAMI, FL | 08/20/2000
FRIEDMAN, BRUCE S, ORANGE, CT | 08/20/2000
GAGLIARDO, DANIEL M, DENTON, TX | 08/20/2000
GOMEZ, ANSELMO, MONTGOMERY, PA | 08/20/2000
GONZALEZ, MARIA ISABEL, MIAMI, FL | 08/20/2000
GONZALEZ-CABALLERO, MERCEDES, MIAMI, FL | 08/20/2000
GUTIERREZ, ANGEL I, MIAMI, FL | 08/20/2000
HARMON, CALVIN J, CARROLLTON, GA | 08/20/2000
HEARTHSTONE, ST JOHN, KS | 02/03/2000
HOSPITALITY OF MACON, MACON, GA | 02/03/2000
HUNTLEY FISTER, DEBBIE IRENE, PLAINVIEW, TX | 08/20/2000
HYLOND SUNNYVALE, SUNNYVALE, CA | 02/03/2000
JAVID, MOHAMMAD A, RAHWAY, NJ | 08/20/2000
JOSEPH, CHARLES R (BUCK), SALYERSVILLE, KY | 08/20/2000
JOSEPH, BARBARA, PRESTONSBURG, KY | 08/20/2000
MASSENGILL, RAYMOND E JR, INDIANAPOLIS, IN | 08/20/2000
MCNUTT, CHARLES D II, GREENVILLE, SC | 08/20/2000
MEDINA, JOSE, HIALEAH, FL | 08/20/2000
MENDOZA, AURORA S, MIAMI, FL | 08/20/2000
MERCADO-FRANCIS, JOSE, FAJARDO, PR | 08/20/2000
MIRANI, HANA H, KNOXVILLE, TN | 08/20/2000
MIRANI, HARESH K, KNOXVILLE, TN | 08/20/2000
MORTON, BETTY J, GUILFORD, CT | 08/20/2000
OLIVERA, IRELA, MIAMI, FL | 08/20/2000
PHILLIPS, JUDI, ELYRIA, OH | 08/20/2000
PINEWOOD TERRACE, COLVILLE, WA | 02/03/2000
PURDOM, DEBORAH MARIE, TUCSON, AZ | 08/20/2000
REED, BENEDICT, LOUISVILLE, KY | 08/20/2000
ROBERTS, RANDALL SCOTT, WELCH, WV | 08/20/2000
SAILORS, DOUGLAS W, MANCHESTER, KY | 08/20/2000
SALAS, JORGE, MIAMI, FL | 08/20/2000
SHESHELOVSKAYA, RIMMA, BAYSIDE, NY | 08/20/2000
SOSA, JORGE LUIS, MIAMI, FL | 08/20/2000
STIVENDER, HELEN M, MACCLENNY, FL | 08/20/2000
STRASSMAN, ALLAN, MONROE TOWNSHIP, NJ | 08/20/2000
TERRENO GARDENS, LOS GATOS, CA | 02/03/2000
TEXIDOR, CARMEN, CAGUAS, PR | 08/20/2000
THOMPSON, CLARK, GRANDVIEW, MO | 08/20/2000
URIZA, CELINA, PEORIA, AZ | 08/20/2000
VALDES, PEDRO R, MIAMI, FL | 08/20/2000
VALLEJO, GUILLERMO, MIAMI, FL | 08/20/2000
VERDECIA, RAMON, HIALEAH, FL | 08/20/2000
WARE, CLYDE L, STONE MOUNTAIN, GA | 08/20/2000
WASHINGTON, ORVILLE, DECATUR, GA | 08/20/2000
ZAMORA, MANUEL, MIAMI, FL | 08/20/2000
ZUBERI, REHAN, FREEHOLD, NJ | 08/20/2000
Felony conviction for health care fraud:
BOLIVAR, ISAAC RABAGO, MARANA, AZ | 08/20/2000
CANNON, ANTHONY, LEWISBURG, PA | 08/20/2000
CANNON, DIANE, ALDERSON, WV | 08/20/2000
SCOTT, VALERIE W, WILMINGTON, DE | 08/20/2000
SEGARRA, SARIS ENRIQUE, MANSFIELD, OH | 08/20/2000
STALLINGS, FANNIE, NEWARK, DE | 08/20/2000
Felony Control Substances Conviction:
BARKSDALE, OLIVER, WILMINGTON, DE | 08/20/2000
CONSIGLIO, DIANA M, MEADVILLE, PA | 08/20/2000
DOCKERY GRIFFIN, CARLA DIANE, TRENTON, TX | 08/20/2000
FRALEY, MICHELLE, TULSA, OK | 08/20/2000
GEORGE, NANCY, NEW BRIGHTON, PA | 08/20/2000
GRANT, JOHN L, PORTSMOUTH, VA | 08/20/2000
MILLER, RICHARD C, ALGOOD, TN | 08/20/2000
NOURALLAH, ABDEL NASER, OAKDALE, LA | 08/20/2000
PARADIS, MILO R, PITTSBURGH, PA | 08/20/2000
ROSS, JONATHAN, CHERRY HILL, NJ | 08/20/2000
TRAN, PAUL CHI, HOUSTON, TX | 08/20/2000
Patient abuse/neglect convictions:
BECK, JOYCE JOAN, BRANDON, MS | 08/20/2000
BELL, VADNEY, GWYNN OAK, MD | 08/20/2000
BOBO, WILLIAM F, COLOMBUS, OH | 08/20/2000
BYARS-BROUGHTON, LORRI ANN, LOS ANGELES, CA | 08/20/2000
CROSS, JIMMIE, HAMPTON, AR | 08/20/2000
DE ESCOBAR, LIDIA INFANTE, NEWHALL, CA | 08/20/2000
EARL, THERESA C, MONROE, LA | 08/20/2000
EDWARDS, GEORGE E, NEW CUMBERLAND, PA | 08/20/2000
FIGUEROA, CATHERINE, GROTON, CT | 08/20/2000
FLORES ALICE JOYCE, BARLINGTON, IA | 08/20/2000
GOVAN, DWIGHT JEROME, MALVERN, AR | 08/20/2000
GRIMES, CHARLES ROBERT, CONWAY, AR | 08/20/2000
HAYDEN, STEVEN, WAUPACA, WI | 08/20/2000
JACOBS, STEVEN D, N ATTLEBORO, MA | 08/20/2000
JEFFERSON, MARGARET, SANDERSVILLE, MS | 08/20/2000
JOHNSON-LEWIS, CLARA DENISE, FRESNO, CA | 08/20/2000
JONES, BARBARA, LEBLANC, LA | 08/20/2000
KENNERLY, VICKIE, HOUSTON, TX | 08/20/2000
MCALLISTER, FELICIA P, MECHANIC FALLS, ME | 08/20/2000
MORAWSKI, JOANNE, GOSHEN, NY | 08/20/2000
MURPHY, SCARLETT, HAMPTON, AR | 08/20/2000
NEWSON, EVA (TRONE), BOGUE CHITTO, MS | 08/20/2000
PORTER, PATRICIA A, GARDEN GROVE, CA | 08/20/2000
PURIFOY, LILLIE MAE, MILWAUKEE, WI | 08/20/2000
PYRON, WENNIFER, DRYFORK, VA | 08/20/2000
RODRIGUEZ, FELIPA M, GAUTIER, MS | 08/20/2000
SCHAAP, DONALD, WILMINGTON, DE | 08/20/2000
STAFFORD, KAYE B, CAMERON, NC | 08/20/2000
TAINA, MARIO PUMA, SAN QUENTIN, CA | 08/20/2000
TOLBERT, HARRISENE V, CHARLESTON, SC | 08/20/2000
WRIGHT, WILLIAM E, CLEVELAND, OH | 08/20/2000
License revocation/suspension/surrendered:
AHMADI, MANOCHER, TEHRAN, IRAN, CA | 08/20/2000
ALLAHRAKHA, MOHAMMAD A, DARIEN, IL | 08/20/2000
ALLISON, TERRY L, MOLINE, IL | 08/20/2000
ALLISON, ANGELA R, POWELL, TN | 08/20/2000
ANDREWS, RONALD WARDELL, AMHERST, NY | 08/20/2000
ARELLANO, RUEBEN R, DENVER, CO | 08/20/2000
ASHKINAZI, IRMA, CHICAGO, IL | 08/20/2000
ATHANS, JOHN, PHOENIX, AZ | 08/20/2000
AUSTIN, LAURA MAE, TEMECULA, CA | 08/20/2000
AUXIER, RHONDA E, WOODWARD, IA | 08/20/2000
AVERY, ANNE F, CHICAGO, IL | 08/20/2000
BALTAZAR, MARIECES ASUNCION, N HOLLYWOOD, CA | 08/20/2000
BARBOUR, KENNETH A, ALEXANDRIA, VA | 08/20/2000
BARZ, KRISTINE O, BOSSIER CITY, LA | 08/20/2000
BEARD, RUTH ALICE SMITH, CAPE CORAL, FL | 08/20/2000
BELL, HAZEL MARIE, DAYTON, MN | 08/20/2000
BETTS, DANITA ROCHELLE, CHICAGO, IL | 08/20/2000
BISSETT, JUDY FAY, PETERSBURG, IL | 08/20/2000
BOTTOMS, MARGARET ANN FULLER, LAKE PARK, FL | 08/20/2000
BOURGOIN, FREDERICK WILLIAM, ST PAUL, MN | 08/20/2000
BOWDEN, RICHARD E, MANCHESTER, TN | 08/20/2000
BRADFORD, CONSTANCE LEWIS, VIRGINIA BEACH, VA | 08/20/2000
BRADFORD, LISA DAWN, MOUNT VERNON, IL | 08/20/2000
BRANNON, ROBERT WILLIAM, HILLARD, OH | 08/20/2000
BROOKHIM, ROBEN, ELIZABETH, NJ | 08/20/2000
BROWN, SUZETTE, ROOSEVELT, OK | 08/20/2000
BROWN, KIM D, PORTSMOUTH, VA | 08/20/2000
BROWN, RUTH C, CHESAPEAKE, VA | 08/20/2000
BROWN-SMITH, GEORGETTE, CHICKAMAUGA, GA | 08/20/2000
CALDWELL, KATHLEEN KAY DIANA, SANTA ROSA, CA | 08/20/2000
CARIAS, ANTONIO, JACKSONVILLE, FL | 08/20/2000
CARROLL, JOYCE J, AURORA, CO | 08/20/2000
CARTER, PHILIP STEPHEN, WILMINGTON, NC | 08/20/2000
CASPERSON, MARY ANN, VALLEY CITY, ND | 08/20/2000
CHAMBERS, TERESA H, LYNCHBURG, VA | 08/20/2000
CHANG, KIAN K, MINOT, ND | 08/20/2000
COCKRUM, ROBYN J (MORGAN), MORRISTOWN, TN | 08/20/2000
COLE, SHEILA M, AURORA, CO | 08/20/2000
COLTRANE, DEBORAH L, TRINITY, NC | 08/20/2000
CONKIN, WILLIAM L, CORDOVA, TN | 08/20/2000
COOPER, CHARLOTTE A, RICHMOND, VA | 08/20/2000
COOPERSMITH, MARK S, FARMINGTON, MI | 08/20/2000
CURETON, SHIRLEY D, ALEXANDRIA, VA | 08/20/2000
DALIMOT, AMANTE, EDGEWOOD, NY | 08/20/2000
DARNELL, BRENDA G, SAVANNAH, TN | 08/20/2000
DAVENPORT, MELISSA, GULFPORT, MS | 08/20/2000
DELMAN, KAREN ELIZABETH, MAHANOY CITY, PA | 08/20/2000
DOLIN, MICHAEL G, ROCKVILLE CTR, NY | 08/20/2000
DOLLIESLAGER, KIMBERLI S, OVERLAND PARK, KS | 08/20/2000
DOROFF, CHRISTOPHER LEAGH, EAGAN, MN | 08/20/2000
DUBE, LAURA L, FT OGLETHORPE, GA | 08/20/2000
DYE, PHILLIP, CYPRESS, TX | 08/20/2000
ELLIOTT, STEVEN DALE, WASHINGTON, IL | 08/20/2000
ERICKSON, TRACY SEAMAN, FORT MORGAN, CO | 08/20/2000
FECSO, DANIEL PHILLIP, LARGO, FL | 08/20/2000
FIGUEROA, LORI ANN, ROCHESTER, NY | 08/20/2000
FINNE, SUSAN M, NORTHBROOK, IL | 08/20/2000
FRANCIS, PAUL W, ROCHESTER, NY | 08/20/2000
FRENCH, JUDITH WOODARD, SAN JOSE, CA | 08/20/2000
GARDNER, KENNETH M, OAK PARK, IL | 08/20/2000
GARNICA, RICHARD ALAN, THOUSAND OAKS, CA | 08/20/2000
GASSETT, TRACI A, CALUMET CITY, IL | 08/20/2000
GILES, JAMES R, MONTROSE, CO | 08/20/2000
GORDON, LOIS E, ANKENY, IA | 08/20/2000
GORTZ, SUZANNA E, LYONS, IL | 08/20/2000
GRANT, VICKI LYNN, W BLOOMFIELD, MI | 08/20/2000
GRATZ, CAROL E, ARCADIA, FL | 08/20/2000
GREENHOUSE, NILES FREDERICK, CENTRAL SQUARE, NY | 08/20/2000
GRIFFIN, JENNIFER SHARP, MIAMI LAKES, FL | 08/20/2000
GUEST, MARTIN DEAN, CHICAGO, IL | 08/20/2000
GURRISTER, JULIE BETH, OAK LAWN, IL | 08/20/2000
HANSEN, MARY LOUISE, SACRAMENTO, CA | 08/20/2000
HARLINE, WESLEY GRANT, OGDEN, UT | 08/20/2000
HARRIS, ARLETTE RAMONA, LAWTON, OK | 08/20/2000
HENDRICKSON, ROBERT MICHAEL, RICHMOND, VA | 08/20/2000
HILL, CAMILLE JULEEN, UPLAND, CA | 08/20/2000
HILL, SHERRY LYNN, FAYETTEVILLE, AR | 08/20/2000
HOLETON, STACEY L, COUNCIL BLUFF, IA | 08/20/2000
HOPKINS, CHARLENE ANN, CINCINNATI, OH | 08/20/2000
HUGENER, DENISE MARIE, SPRINGFIELD, IL | 08/20/2000
HUSSAIN, SHAHID M, VILLA PARK, IL | 08/20/2000
JANSEN, VICKI SUZANNE, MONTEAGLE, TN | 08/20/2000
JERRELL, CHARLES L, LAGUNA BEACH, FL | 08/20/2000
JOHNSON, KYMBERLIE DAWN, ST PAUL, MN | 08/20/2000
JONES, LINNEA JOHNSON, BEACHWOOD, OH | 08/20/2000
KENNEDY, VICKY PARSLEY, MEMPHIS, TN | 08/20/2000
KERR, KATHERINE L, BURLINGTON, IA | 08/20/2000
KILLEN, DEBORAH F, CLEVELAND, TN | 08/20/2000
KINNAMON, ELEANOR, SAN JOSE, CA | 08/20/2000
KOERNER, BRUCE I, WARRENSBURG, NY | 08/20/2000
KRUEGER, KATHLEEN S SHORTELL, NAPLES, FL | 08/20/2000
LANGDON, REBECCA Y, RUTLAND, VT | 08/20/2000
LANTERMAN, NANCY LEE DODD, LAKELAND, FL | 08/20/2000
LAUMEIER, DANA LYNN, DAVENPORT, IA | 08/20/2000
LEACH, BILLY SHANE, MONROE, LA | 08/20/2000
LLOYD, SLAYTER R JR, HENDERSON, NC | 08/20/2000
LONG, SHEILA LINVILLE, UMPIRE, AR | 08/20/2000
LONG, JAMES JOSEPH JR, WALLINGFORD, PA | 08/20/2000
LONG, NANCY LYNN CARSON, ORLANDO, FL | 08/20/2000
LORUSSO, JEAN BOFFI, ROME, NY | 08/20/2000
LYNCH, ROBERT T, PRIOR LAKE, MN | 08/20/2000
MACBETH, MARY M SZOT, WINTER SPRING, FL | 08/20/2000
MARSHALL, BRONWEN K, RICHMOND, VA | 08/20/2000
MATHEWS, JENNIFER E, S PITTSBURG, TN | 08/20/2000
MCCLELLAN, CLAUDIA JO, SANTA BARBARA, CA | 08/20/2000
MCDOWELL, LORNA ANN, WALLACE, CA | 08/20/2000
MERRITT, PATRICIA JEAN, MINNEAPOLIS, MN | 08/20/2000
MICKENS, CAROL LYNN, BEDFORD HILLS, NY | 08/20/2000
MORROW, MARGARET S, W DES MOINES, IA | 08/20/2000
MURPHY, THELMA L, BARTLETT, TN | 08/20/2000
MURPHY, RICHARD J, JENNERSTOWN, PA | 08/20/2000
NETTER, JEFFREY G, BROOKLYN, NY | 08/20/2000
NEWBERN, CARMEN C, WAVERLY, TN | 08/20/2000
NEWBURY, NICOLE M, TAMPA, FL | 08/20/2000
OLIVER, ALEXANDER, BRONX, NY | 08/20/2000
OLSON, JENNIFER LOU, SARASOTA, FL | 08/20/2000
PADGETT, JAMES REGINALD, PASADENA, CA | 08/20/2000
PALMER, ROSEMARY JUNE, SHAKOPEE, MN | 08/20/2000
PAPPERT-BLACK, LINDA, PHILADELPHIA, PA | 08/20/2000
PATEL, RAMBEN DAHYABHAI, PARLIN, NJ | 08/20/2000
PEARCE, PAMELA A, KNOXVILLE, TN | 08/20/2000
PICKENS, MARILYN A, ANCHORAGE, AK | 08/20/2000
PIKE, MARY HANSON, LEESPORT, PA | 08/20/2000
PIPKIN, PAUL ERIC, JACKSONVILLE, FL | 08/20/2000
PITCHER, JANICE, CAVALIER, ND | 08/20/2000
PLEASURE, NICHELLE N, ANCHORAGE, AK | 08/20/2000
PRESSGROVE, BEVERLY, MEMPHIS, TN | 08/20/2000
PRIESTLY, NIKKI RAE, MISSION, TX | 08/20/2000
PROVOST, MAUREEN ELIZABETH, WOODBURY, MN | 08/20/2000
PRUITT, BRENDA L, KUTTAWA, KY | 08/20/2000
PURTELL, ALLISON ELAINE, LAGUNA NIGUEL, CA | 08/20/2000
RAGAJI, JOHN JAMES, AKRON, OH | 08/20/2000
RAMAZANOGLU, MEHMET FATIH, ALBANY, NY | 08/20/2000
RAMER, CYNTHIA L, OMAHA, NE | 08/20/2000
RICHARDSON, CLAUDETTE, S FLORAL PARK, NY | 08/20/2000
ROLLER, MICHAEL J, MILWAUKEE, WI | 08/20/2000
ROWELL, RANDY SCOTT, LEXINGTON, MS | 08/20/2000
RUBIN, MARVIN JOEL, MINNEAPOLIS, MN | 08/20/2000
RUPP, GWEN M, WESTMINISTER, CO | 08/20/2000
SANDS, LUELLA ANNE, BLOOMINGTON, MN | 08/20/2000
SANSANO, JANET TUPA, SAN DIEGO, CA | 08/20/2000
SAUNDERS, FRANCIS LEON, CHICO, CA | 08/20/2000
SCHIMANDLE, JEFFREY H, OKLAHOMA CITY, OK | 08/20/2000
SEAMAN, TAMARA LOUISVILLE, KY | 06/20/2000
SHIRK, SANDRA K, MECHANICSBURG, PA | 08/20/2000
SNOW, JAMES F, PLANTSVILLE, CT | 08/20/2000
STEGNER, KATHLEEN MARIE, JACKSONVILLE, FL | 08/20/2000
STODDARD, PAMELA LEE, DEL RIO, TX | 08/20/2000
SULLIVAN, TAMMY J, MURFREESBORO, TN | 08/20/2000
SWEAT, KENDRA L, JACKSBORO, TN | 08/20/2000
TAKEUCHI, ERNEST I, ANTIOCH, CA | 08/20/2000
THOMPSON, LORNA, BAYVILLE, NY | 08/20/2000
THROCKMORTON, ERIC B, LEXINGTON, KY | 08/20/2000
TREVINO, CHERYL LYNN, SAN ANTONIO, TX | 08/20/2000
TULL, JOHN HUBERT JR, TYLER, TX | 08/20/2000
VANATTA, RITA, WHITE HOUSE, TN | 08/20/2000
VENEZIA, JOHN ALFRED, JUPITER, FL | 08/20/2000
VESTAL, GUY ROBERT, CARLSBAD, CA | 08/20/2000
WALES, KELLY STOTT, STOUCHSBURG, PA | 08/20/2000
WASHKO, SCOTT ANDREW, MISSOURI CITY, TX | 08/20/2000
WELLS, MELISSA E, N TRURO, MA | 08/20/2000
WEST, CHERYL LYNN, LARGO, FL | 08/20/2000
WHITE, KRISTIAN WESLEY JEROME, WACONIA, MN | 08/20/2000
WILHELM, HAROLD PHILIP, WHITE BEAR LAKE, MN | 08/20/2000
WILMETH, ROBERT NEAL, BURNSVILLE, MS | 08/20/2000
WOOD, KATHERINE LOUISE, MORRILTON, AR | 08/20/2000
WOOLLEY, PATRICIA GUSZAK, PEN ARGYL, PA | 08/20/2000
YOUNG, ROBERT JAMES, ALLENTOWN, PA | 08/20/2000
YOUNTS, DONALD W, SHENANDOAH, IA | 08/20/2000
ZERATSKY, LISA L, TAMPA, FL | 08/20/2000
Federal/State exclusion/suspension:
MARTIN, ANDRE E, VENTNOR, NJ | 08/20/2000
MORELL, JOHN A, NEW BRITAIN, CT | 08/20/2000
MORELL, ROBERT J, KENSINGTON, CT | 08/20/2000
MORELL, KAREN, BERLIN, CT | 08/20/2000
MORELL, GEORGE A, BERLIN, CT | 08/20/2000
VAUGHAN, DANIEL M, WOLCOTT, CT | 08/20/2000
Fraud/kickbacks:
MISEVIC, GABRIEL, KANKAKEE, IL | 03/26/1999
Owned/controlled by Convicted Excluded:
MARTINEZ CHIROPRACTIC OFFICE, FRESNO, CA | 08/20/2000
PEDIATRIC DENTISTRY OF GREENVILLE, GREENVILLE, SC | 08/20/2000
REMOND NOWRY, D D S, INC, SUN VALLEY, CA | 08/20/2000
SUPERIOR MEDICAL CORP, MIAMI BEACH, FL | 08/20/2000
Default on heal loan:
AVER, REVA B, PORTLAND, OR | 07/18/2000
DIAIS, SHIHAB M, ODESSA, TX | 08/20/2000
DITOMMASO, RICHARD A, PITTSBURGH, PA | 08/20/2000
DUNEVITZ, BENJAMIN S, ROCKLIN, CA | 08/20/2000
MARTIN, MONTE LLOYD, ENUMCLAW, WA | 08/20/2000
MILLER, DONALD P, CHESTERFIELD, MO | 08/20/2000
RODRIGUEZ, EDWIN O, VILLA NEVAREZ, PR | 08/20/2000
SCHOONOVER, JOHN BRADLEY, LANCASTER, TX | 08/20/2000
SEGOTA, DEBRA A, TUSTIN, CA | 08/20/2000
SIX, LAREY G, SEARCY, AR | 08/20/2000
SLAVIN, MARK B, MOORPARK, CA | 08/20/2000
TA, QUOCHUAN E, SAN FRANCISCO, CA | 08/20/2000
TAYLOR, DAVID L, LORTON, VA | 08/20/2000
TRAINER-MASORTI, KIMBERLY J, STATE COLLEGE, PA | 08/20/2000
TURNER, JAMES E, SALLISAW, OK | 08/20/2000

Dated: August 4, 2000.
Calvin Anderson, Jr.,
Director, Health Care Administrative Sanctions, Office of Inspector General.

[FR Doc. 00-22142 Filed 8-31-00; 8:45 am]

BILLING CODE 4150-04-P